NUCLEAR REGULATORY COMMISSION

[NRC-2010-0080]

NUREG-0654/FEMA-REP-1, Rev. 1, Supplement 3, Guidance for Protective Action Recommendations for General Emergencies; Draft for Comment

AGENCY: Nuclear Regulatory Commission (NRC).

ACTION: Announcement of issuance for public comment, availability.

SUMMARY: The NRC has issued for public comment a document entitled: “NUREG-0654/FEMA-REP-1, Rev. 1, Supplement 3, Guidance for Protective Action Recommendations for General Emergencies, Draft Report for Comment.”

DATES: Please submit comments by May 24, 2010. Comments received after this date will be considered if it is practical to do so, but the NRC staff is able to ensure consideration only for comments received on or before this date.

ADDRESSES: You may submit comments by any one of the following methods. Please include Docket ID NRC-2010-0080 in the subject line of your comments. Comments submitted in writing or in electronic form will be posted on the NRC Web site and on the Federal rulemaking Web site Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal Rulemaking Web site: Go to http://www.regulations.gov and search for documents filed under Docket ID NRC-2010-0080. Address questions about NRC dockets to Carol Gallagher 301-492-3668; e-mail Carol.Gallagher@nrc.gov.

Mail comments to: Michael T. Lesar, Chief, Rulemaking and Directives Branch (RDB), Division of Administrative Services, Office of Administration, Mail Stop: TWB-05-B01M, U.S. Nuclear Regulatory Commission, Washington, DC 20555-0001, or by fax to RDB at 301-492-3446.

You can access publicly available documents related to this notice using the following methods:

NRC's Public Document Room (PDR): The public may examine and have copied for a fee publicly available documents at the NRC's PDR, Room O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. NUREG-0654/FEMA-REP-1, Rev. 1, Supplement 3, “Guidance for Protective Action Recommendations for General Emergencies, Draft Report for Comment” is available electronically under ADAMS Accession Number ML100150268.

Federal Rulemaking Web site: Public comments and supporting materials related to this notice can be found at http://www.regulations.gov by searching on Docket ID: NRC-2010-0080.

FOR FURTHER INFORMATION CONTACT: Randy Sullivan, Division of Preparedness and Response, Office of Nuclear Security and Incident Response, U.S. Nuclear Regulatory Commission, Washington, DC 20555-0001. Telephone: 301-415-1123, e-mail: randy.sullivan@nrc.gov.

SUPPLEMENTARY INFORMATION: The NRC is proposing to update its protective action recommendation guidance by issuing NUREG-0654/FEMA-REP-1, Rev. 1, Supplement 3, “Guidance for Protective Action Recommendations for General Emergencies, Draft Report for Comment.” When this document is issued in final form for use, it will supersede the existing guidance contained in Supplement 3 to NUREG-0654/FEMA-REP-1, Rev. 1, “Criteria for Preparation and Evaluation of Radiological Emergency Response Plans and Preparedness in Support of Nuclear Power Plants,” which was issued in draft form for interim use and guidance in 1996. This updated draft guidance reflects insights the NRC gained through study of protective action strategy efficacy documented in NUREG-0653, “Review of NUREG-0654, Supplement 3, ‘Criteria for Protective Action Recommendations for Severe Accidents’ ” (which can be found at the NRC Web site address: http://www.nrc.gov/reading-rm/doc-collections/nuregs/contract/cr6953/).

The NRC has coordinated the draft Supplement 3 with the Federal Emergency Management Agency. The draft guidance incorporates the following elements:

• Increased offsite response organization involvement in development of protective action strategy

• Consideration of staged evacuation as the initial protective action at General Emergency

• Increased use of shelter-in-place for certain scenarios

• Guidance to improve communications with the public before and during an emergency

The NRC expects to issue the guidance in final form in mid-2011 and nuclear power plant licensees to implement the guidance in their emergency preparedness programs within one year of the issuance of this guidance document in final form. Elements of the guidance should be demonstrated by each applicable licensee in its next biennial exercise with a scenario that requires offsite protective actions that is conducted more than one year after that issuance date. The NRC is seeking comment on the technical content of draft Supplement 3 as well as its implementation schedule.

Dated at Rockville, Maryland this 25th day of February 2010.
For the Nuclear Regulatory Commission.
Robert E. Kahler,
Chief, Inspection and Regulatory Improvements Branch, Division of Preparedness and Response, Office of Nuclear Security and Incident Response.

[FR Doc. 2010-4878 Filed 3-5-10; 8:45 am]

BILLING CODE 7590-01-P